DEPARTMENT OF JUSTICE

Antitrust Division

Notice Pursuant to the National Cooperative Research and Production Act of 1993—The Software Defined Radio Form

Notice is hereby given that, on September 20, 2004, pursuant to section 6(a) of the National Cooperative Research and Production Act of 1993, 15 U.S.C. 4301 et seq. (“the Act”), The Software Defined Radio Forum (“SDR Forum” has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: The Software Defined Radio Forum, Denver, CO. The nature and scope of SDR Forum's standards development activities are: (a) To promote the development and application of a compatible modular technology base for software-defined information transfer systems and devices; (b) to comprise an international group of equipment vendors, subsystem vendors, software developers, technology developers, communication service providers, research and engineering organizations, government users, regulators and other interested parties who share the common business interest of supporting the advancement of a compatible modular technology base for multimode multiband information transfer systems and devices; (c) to promote the development and application of such technology worldwide; (d) to promote national and international compatibility and interoperability for such technology; (e) to develop and/or promulgate uniform standards for such technology; and (f) to conduct cooperative research, perform tests and prepare and disseminate informational materials relating to such technology.

Dorothy B. Fountain,
Deputy Director of Operations, Antitrust Division.

[FR Doc. 04-25835 Filed 11-19-04; 8:45 am]

BILLING CODE 4410-11-M